DEPARTMENT OF TRANSPORTATION

Surface Transportation Board

[STB Ex Parte No. 290 (Sub No. 5) (2008-1)]

Quarterly Rail Cost Adjustment Factor

AGENCY: Surface Transportation Board.

ACTION: Approval of rail cost adjustment factor.

SUMMARY: The Board has approved the rebased first quarter 2008 rail cost adjustment factor (RCAF) and cost index filed by the Association of American Railroads. As required by statute, the RCAF is rebased using the fourth quarter 2007 index value as the denominator and first quarter 2008 index value as the numerator (10/1/07 = 1.00). Rebasing is required every five years. The rebased first quarter 2008 RCAF (Unadjusted) is 1.050. The rebased first quarter 2008 RCAF (Adjusted) is 0.486. The rebased first quarter 2008 RCAF-5 is 0.461.

EFFECTIVE DATE: January 1, 2008.

FOR FURTHER INFORMATION CONTACT: Pedro Ramirez, (202) 245-0333. [Federal Information Relay Service (FIRS) for the hearing impaired: 1-800-877-8339.]

SUPPLEMENTARY INFORMATION: Additional information is contained in the Board's decision, which is available on our Web site http://www.stb.dot.gov. To purchase a copy of the full decision, write to, e-mail, or call the Board's contractor, ASAP Document Solutions, 9332 Annapolis Rd., Suite 103, Lanham, MD 20706; e-mail asapdc@verizon.net; phone (202) 306-4004. [Assistance for the hearing impaired is available through FIRS: 1-800-877-8339.]

This action will not significantly affect either the quality of the human environment or energy conservation.

Pursuant to 5 U.S.C. 605(b), we conclude that our action will not have a significant economic impact on a substantial number of small entities within the meaning of the Regulatory Flexibility Act.

Decided: December 19, 2007.
By the Board, Chairman Nottingham, Vice Chairman Buttrey, and Commissioner Mulvey.
Vernon A. Williams,
Secretary.

[FR Doc. E7-24998 Filed 12-26-07; 8:45 am]

BILLING CODE 4915-01-P